ENVIRONMENTAL PROTECTION AGENCY

40 CFR Part 192

[EPA-HQ-OAR-2012-0788; FRL-9926-76-OAR]

RIN 2060-AP43

Health and Environmental Protection Standards for Uranium and Thorium Mill Tailings; Extension of Comment Period

AGENCY: Environmental Protection Agency (EPA).

ACTION: Proposed rule; extension of comment period.

SUMMARY: The U.S. Environmental Protection Agency is announcing an extension of the public comment period for the Notice of Proposed Rulemaking (NPRM) requesting public comment and information on revisions to the EPA's “Health and Environmental Protection Standards for Uranium and Thorium Mill Tailings.” The EPA published the NPRM on January 26, 2015 in the Federal Register (80 FR 4156), which included a request for comments on or before April 27, 2015. The purpose of this action is to extend this comment period an additional 30 days.

DATES: Written comments must be received on or before May 27, 2015.

ADDRESSES: Submit your comments, identified by Docket ID No. EPA-HQ-OAR-2012-0788, by one of the following methods:

• http://www.regulations.gov: Follow the online instructions for submitting comments.

• Email: a-and-r-docket@epa.gov.

• Fax: (202) 566-9744.

• Mail: U.S. Postal Service, send comments to: Air and Radiation Docket, EPA Docket Center, Docket ID No. EPA-HQ-OAR-2012-0788, 1200 Pennsylvania Ave. NW., Washington, DC 20460. Please include a total of two copies.

Hand Delivery: In person or by courier, deliver comments to: EPA Docket Center, Docket ID No. EPA-HQ-OAR-2012-0788, EPA West, Room 3334, 1301 Constitution Avenue NW., Washington, DC 20004. Such deliveries are only accepted during the Docket's normal hours of operation, and special arrangements should be made for deliveries of boxed information. Please include a total of two copies.

Instructions: Direct your comments to Docket ID No. EPA-HQ-OAR-2012-0788. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about the EPA's public docket, visit the EPA Docket Center homepage at http://www.epa.gov/epahome/dockets.htm.

Docket: All documents in the docket are listed in the http://www.regulations.gov index. Although listed in the index, some information is not publicly available, e.g., CBI or other information for which disclosure is restricted by statute. Certain other material, such as copyrighted material, will be publicly available only in hard copy. Publicly available docket materials are available either electronically in http://www.regulations.gov or in hard copy at the EPA Docket Center, EPA West, Room 3334, 1301 Constitution Ave. NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Ingrid Rosencrantz, EPA Office of Radiation and Indoor Air; telephone number: (202) 343-9286; email address: rosencrantz.ingrid@epa.gov.

SUPPLEMENTARY INFORMATION:

A. What should I consider as I prepare my comments for the EPA?

1. Tips for Preparing Your Comments. When submitting comments, remember to:

• Identify the rulemaking by docket number, subject heading, Federal Register date and page number.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

B. How can I get copies of this document, the proposed rule, and other related information?

The EPA has established a docket for this action under Docket ID No. EPA-HQ-OAR-2012-0788. The EPA has also developed a Web site for the NPRM at: http://www.epa.gov/radiation/tenorm/40CFR192.html. Please refer to the original Federal Register document on the NPRM for detailed information on accessing information related to the document.

In response to requests for an extension, we are extending the public comment period for this NPRM through May 27, 2015. This extension will provide the public additional time to provide comment on updating this standard.

Dated: April 17, 2015.
Janet G. McCabe,
Acting Assistant Administrator, Office of Air and Radiation.

[FR Doc. 2015-09624 Filed 4-23-15; 8:45 am]

BILLING CODE 6560-50-P